ENVIRONMENTAL PROTECTION AGENCY

[ER-FRL-6659-7]

Public Comment Requested on the Draft Environmental Impact Statement for Proposed Site Designation of the “LA-3” Ocean Dredged Material Disposal Site off Newport Bay, Orange County, CA

AGENCY: U.S. Environmental Protection Agency (EPA) and U.S. Army Corps of Engineers (USACE).

ACTION: Notice of Availability and request for public comment on a draft Environmental Impact Statement (EIS) to designate “LA-3” as a permanent ocean dredged material disposal site (ODMDS) offshore of Newport Bay, California.

The EIS also re-evaluates an annual disposal volume limit for the existing LA-2 ODMDS offshore of the Los Angeles and Long Beach Harbors, and how to minimize cumulative environmental impacts from the two ODMDS in the region. EPA has the authority to designate ODMDS under Section 102 of the Marine Protection, Research and Sanctuaries Act (MPRSA) of 1972 (33 U.S.C. 1401 et seq.). It is EPA's policy to prepare NEPA documents for all ODMDS designations (63 FR 58045, October 1998). The USACE, as a cooperating agency for this action, received Congressional appropriations to fund this site designation, and managed contracts for field studies and preparation of the draft EIS. Public comments on this draft EIS evaluation will be accepted for 45 days from the date of this notice.

FOR FURTHER INFORMATION AND/OR TO SUBMIT COMMENTS, CONTACT: Mr. Allan Ota, U.S. Environmental Protection Agency, Region 9, Dredging and Sediment Management Team (WTR-8), 75 Hawthorne Street, San Francisco, California 94105-3901, Telephone: (415) 972-3476 or FAX: (415) 947-3537 or E-mail: R9-LA3-DEIS@epa.gov.

Purpose: EPA requests public comments and intends to conduct public meetings to collect comments on the draft EIS. Copies of this draft EIS may be viewed at the following locations:

1. Lloyd Taber-Marina del Rey Library, 4533 Admiralty Way, Marina del Rey, CA 90292.

2. Long Beach Public Library, 101 Pacific Avenue, Long Beach, CA 90822.

3. Los Angeles Public Library, Central Library, 630 West 5th Street, Los Angeles, CA 90071.

4. Los Angeles Public Library, San Pedro Regional Branch Library, 931 South Gaffey Street, San Pedro, CA 90731.

5. Newport Beach Public Library, Balboa Branch, 100 East Balboa Boulevard, Balboa, CA 92661.

6. Newport Beach Public Library, Central Library, 1000 Avocado Avenue, Newport Beach, CA 92660.

7. Newport Beach Public Library, Corona del Mar Branch, 420 Marigold Avenue, Corona del Mar, CA 92625.

8. Newport Beach Public Library, Mariners Branch, 2005 Dover Drive, Newport Beach, CA 92660.

9. U.S. Environmental Protection Agency (EPA) Library, 75 Hawthorne Street, 13th Floor, San Francisco, CA 94105.

10. U.S. EPA, Southern California Field Office, 600 Wilshire Boulevard, Suite 1460, Los Angeles, CA 90017.

11. U.S. EPA Web site: http://www.epa.gov/region9/.

12. U.S. Army Corps of Engineers' Web site: http://www.spl.usace.army.mil.

SUMMARY: Dredging is essential for maintaining safe navigation in harbors and marinas in the Los Angeles County and Orange County region. Not all dredged materials are suitable for beneficial re-use (e.g., construction materials, wetlands restoration), and not all suitable materials can be deposited at the existing LA-2 ODMDS given costs and logistical constraints. The LA-3 ODMDS has been used for the disposal of dredged material by some Orange County projects in the past, but its “interim” status has expired. Therefore there is a need to designate LA-3 as a permanent ODMDS. No actual disposal operations are authorized by this action; and disposal can only take place after a Federal permit is secured. Before ocean disposal may take place, dredging projects must demonstrate a need for ocean disposal and the proposed dredged material must be suitable (non-toxic) according to USEPA ocean dumping criteria. Alternatives, including the option for beneficial re-use of dredged material, will be evaluated for each permit. Both LA-3 and LA-2 will be monitored periodically to ensure that each site operates as expected. This proposed site designation has been prepared pursuant to Section 102 of the Marine Protection, Research and Sanctuaries Act (MPRSA). The evaluation is based on EPA's general and specific criteria. Field studies, modeling of sediment dispersion following dredged material disposal under various scenarios, incompatible use areas, and economic considerations are included in the evaluation.

The preferred alternative location for a permanent LA-3 ODMDS is about 4.5 nautical miles offshore of Newport Bay and in water depths ranging from 1,500 to 1,675 feet. It is 2,400 meters southeast of the “interim” LA-3 site, and was determined to be the environmentally preferred location given its depth and stability. LA-3 will be managed regionally in conjunction with the existing LA-2 ODMDS. The preferred alternative in the draft EIS is to limit disposal of dredged material at the LA-3 ODMDS to a maximum of 2,500,000 cubic yards annually and to increase the maximum annual disposal limit at the LA-2 ODMDS to 1,000,000 cubic yards of dredged material. The draft EIS contains an evaluation of potential impacts associated with the preferred alternative, other combinations of managing LA-3 and LA-2 jointly, and the No-Action alternative.

Comments were received during the scoping comment period and four public scoping meetings were held at Los Angeles and Orange County locations in July 2003. Revisions were made to the draft EIS to address these comments.

Public Meetings: EPA is requesting written comments on this draft EIS from federal, state, and local governments, industry, non-governmental organizations, and the general public. Comments will be accepted for 45 days, beginning with the date of this Notice. Public meetings are scheduled at the following location and date:

—February 9, 2005, 2-4 p.m. and 7-9 p.m., in Orange County at the Upper Newport Bay Peter and Mary Muth Interpretive Center, 2301 University Drive, Newport Beach, California 92660 (corner of University Drive and Irvine Avenue).

Responsible Official: Wayne Nastri, Regional Administrator Environmental Protection Agency, Region 9.

Dated: January 12, 2005.
Anne Norton Miller,
Director, Office of Federal Activities.

[FR Doc. 05-1148 Filed 1-19-05; 8:45 am]

BILLING CODE 6560-50-P